DEPARTMENT OF AGRICULTURE

Cooperative State Research, Education, and Extension Service Proposed Revised Guidelines for State Plans of Work for the Agricultural Research and Extension Formula Funds

AGENCY: Cooperative State Research, Education, and Extension Service, USDA.

ACTION: Notice and request for comment.

SUMMARY: The Cooperative State Research, Education, and Extension Service (CSREES) is requesting public comment on the proposed revised Guidelines for State Plans of Work for the Agricultural Research and Extension Formula Funds [64 FR 19242-19248]. These guidelines prescribe the procedures to be followed by the eligible institutions receiving Federal agricultural research and extension formula funds under the Hatch Act of 1887, as amended (7 U.S.C. 361a et seq.); sections 3(b)(1) and (c) of the Smith-Lever Act of 1914, as amended (7 U.S.C. 343 (b)(1) and (c)); and sections 1444 and 1445 of the National Agricultural Research, Extension, and Teaching Policy Act of 1977, as amended (7 U.S.C. 3221 and 3222). The recipients of these funds are commonly referred to as the 1862 land-grant institutions and 1890 land-grant institutions, including Tuskegee University and West Virginia State University. CSREES also is requesting public comment on the revision of a previously approved information collection (OMB No. 0524-0036) associated with these guidelines.

DATES: Written comments are invited from interested individuals and organizations. To be considered in the formulation of the guidelines, comments must be received on or before July 7, 2005.

ADDRESSES: You may submit comments by any of the following methods:

Mail: Planning and Accountability, Office of the Administrator; CSREES-USDA; Mail Stop 2214; 1400 Independence Avenue, SW.; Washington, DC 20250-2214.

Hand Delivery: Planning and Accountability, Office of the Administrator; CSREES-USDA; Room 1314; 800 9th Street, SW.; Washington, DC 20024.

Email: bhewitt@csrees.usda.gov.

Fax: 202-720-4730 to the attention of Bart Hewitt.

FOR FURTHER INFORMATION CONTACT: Mr. Bart Hewitt; Program Analyst, Planning and Accountability, Office of the Administrator; CSREES-USDA; Washington, DC 20250; at 202-720-5623, 202-720-7714 (fax) or via electronic mail at bhewitt@csrees.usda.gov.

SUPPLEMENTARY INFORMATION:

Paperwork Reduction Act

In accordance with the Office of Management and Budget (OMB) regulations (5 CFR part 1320) that implement the Paperwork Reduction Act of 1995 (44 U.S.C. chapter 35), the information collection and recordkeeping requirements imposed by the implementation of these guidelines have been submitted to OMB as a revision of Information Collection No. 0524-0036, Reporting Requirements for State Plans of Work for Agricultural Research and Extension Formula Funds. These requirements will not become effective prior to OMB approval. The eligible institutions will be notified upon this approval.

Title: Reporting Requirements for State Plans of Work for Agricultural Research and Extension Formula Funds.

Summary: The purpose of this collection of information is to implement the requirements of section 7 of the Hatch Act of 1887, as amended (7 U.S.C. 361g); section 4 of the Smith-Lever Act, as amended (7 U.S.C. 343); and section 1444(d) and section 1445(c) of the National Agricultural Research, Extension, and Teaching Policy Act of 1977 (NARETPA), as amended (7 U.S.C. 3221(d) and 3222(c)), which require that before funds may be provided to a State or eligible institution under these Acts a plan of work must be submitted by the proper officials of the State or eligible institution, as appropriate, and approved by the Secretary of Agriculture.

Need for the Information: The Agricultural Research, Extension, and Education Reform Act of 1998 (AREERA), Public Law 105-185, amended the Hatch Act of 1887, Smith-Lever Act, and sections 1444 and 1445 of NARETPA to require plans of work to be received and approved by CSREES prior to the distribution of funding authorized under these Acts. This collection of information will satisfy the plan-of-work reporting requirements as imposed by these Acts. This collection of information includes three parts: (1) The submission of a 5-Year Plan of Work; (2) the submission of an annual update of the 5-Year Plan of Work, and (3) the submission of the Annual Report of Accomplishments and Results for the 5-Year Plan of Work.

1. The first two collections of information are required in order to satisfy the above amendments to the Acts that authorize the distribution of agricultural research and extension formula funds to States and eligible institutions. In addition to a description of planned programs, the 5-Year Plan of Work must include information on how critical short-term, intermediate, and long-term agricultural issues in the State will be addressed in research and extension programs; how the State or eligible institution has developed a process to consult users of agricultural extension and research in the identification of critical agricultural issues in the State and the development of programs and projects targeting these issues (also referred to as stakeholder input); how the State or eligible institution has made efforts to identify and collaborate with other universities and colleges that have a unique capacity to address the identified agricultural issues in the State and the extent of current and emerging efforts (including the regional and/or multistate efforts) to work with these institutions; the manner in which research and extension, including research and extension activities funded other than through formula funds, will cooperate to address the critical issues in the State, including activities to be carried out separately, sequentially, or jointly; and for extension, the education and outreach programs already underway to convey available research results that are pertinent to a critical agricultural issue, including efforts to encourage multicounty cooperation in the dissemination of research information.

Section 103(e) of AREERA (7 U.S.C. 7613(e)) also required, effective October 1, 1999, that a merit review process be established at the 1862 land-grant institutions and 1890 land-grant institutions in order to obtain agricultural research and extension formula funds. The 5-Year Plan of Work includes a section for the description of the merit review process to ensure that such a process is in place prior to the distribution of agricultural research and extension formula funds.

Sections 104 and 105 of AREERA also amended the Hatch Act and Smith-Lever Act to require that a specified amount of the agricultural research and extension formula funds be expended for multistate activities and that a description of these activities be reported in the plan of work. Section 204 of AREERA further amended the Hatch Act and Smith-Lever Act to require that a specified amount of the agricultural research and extension formula funds be expended for activities that integrate cooperative research and extension and that a description of these activities be included in the plan of work. Two components of the 5-Year Plan of Work submission have been included to meet these additional requirements.

2. The second collection of information will be an annual update to the 5-Year Plan of Work. This will be required to add an additional year to the continuous 5-Year Plan of Work and add any substantive change to planned programs or a significant change in funding as outlined in the proposed guidelines.

3. The third collection of information will be the Annual Report of Accomplishments and Results. This will be based on the 5-Year Plan of Work, and will assist CSREES in ensuring that federally supported and conducted research and extension activities are accomplished in accordance with the management principles set forth under section 102(d) of AREERA (7 U.S.C. 7612(d)). These principles require that to the maximum extent possible, CSREES shall ensure that federally supported research and extension activities are accomplished in a manner that integrates agricultural research, extension, and education functions to better link research to technology transfer and information dissemination activities; encourages regional and multistate programs to address relevant issues of common concern and to better leverage scarce resources; and achieves agricultural research, extension, and education objectives through multi-institutional and multifunctional approaches and by conducting research at facilities and institutions best equipped to achieve these objectives.

CSREES is proposing to request the 5-Year Plan of Work, the annual update of the 5-Year Plan of Work, and the Annual Report of Accomplishments and Results for the 5-Year Plan of Work in a web-based electronic format to comply with the Government Paperwork Elimination Act (GPEA). CSREES also is proposing to incorporate the recommendations from the USDA Office of Inspector General (OIG) Audit No. 13001-3-Te, CSREES Implementation of the Agricultural Research, Extension, and Education Reform Act of 1998 (AREERA) in the plan-of-work process. Currently, in the FY 2000-2004 Plan of Work and Annual Report of Accomplishments and Results and the FY 2005-2006 Plan of Work Update and Annual Report of Accomplishments and Results, institutions are submitting their reports via e-mail in WordPerfect file format, Microsoft Word file format, or ASCII file format. CSREES also is in the process of developing a “One-Solution” for reporting for all CSREES grant programs including those covered in the 5-Year Plan of Work. A “One-Solution” integrated reporting system will be more streamlined and effective, eliminate duplicative reporting, and provide additional program and fiscal accountability while reducing the overall burden hours for reporting. The web-based system developed for the plan of work process will be made part of the “One Solution” product at the appropriate time. Moreover, currently, in the FY 2000-2004 Plan of Work and Annual Report of Accomplishments and Results and the FY 2005-2006 Plan of Work Update and Annual Report of Accomplishments and Results, institutions are submitting their reports around the five original USDA Government Performance and Results Act (GPRA) goals established for FY 2000. CSREES is proposing that institutions submit their reports around established Knowledge Areas and the Logic Model.

Respondents: Respondents will be the 57 1862 land-grant institutions and the 18 1890 land-grant institutions, including Tuskegee University and West Virginia State University, who will provide a 5-Year Plan of Work; and will report on the accomplishments and results of this plan of work annually to CSREES.

Estimate of Burden: The amendments to AREERA require a plan of work for funds that are distributed on an annual basis. To reduce the burden on respondents, CSREES proposes to provide a web-based input system for the 5-Year Plan of Work and subsequent Annual Report of Accomplishments and Results.

The total reporting and recordkeeping requirements for the submission of the 5-Year Plan of Work is estimated at 560 hours per response.

Estimated Number of Respondents: 75.

Estimated Number of Responses: 150.

Estimated Total Annual Burden on Respondents: 84,000 hours.

Frequency of Responses: Once every five years.

The total reporting and recordkeeping requirement for the Annual Update to the 5-Year Plan of Work is estimated at 56 hours per response.

Estimated Number of Respondents: 75.

Estimated Number of Responses: 150.

Estimated Total Annual Burden on Respondents: 8,400 hours.

Frequency of Responses: Annually.

The total annual reporting and recordkeeping requirements for the “Annual Report of Accomplishments and Results” is estimated at 288 hours per response.

Estimated Number of Respondents: 75.

Estimated Number of Responses: 150.

Estimated Total Annual Burden on Respondents: 43,200 hours.

Frequency of Responses: Annually.

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of collection of information on those who are to respond, including the use of appropriate automated, electronic, mechanical, or other technological collection techniques or other forms of information technology. Comments may be sent to: CSREES-USDA; Planning and Accountability, Office of the Administrator; Mail Stop 2214; 1400 Independence Avenue, SW., Washington, DC 20250-2214 by August 11, 2005 or to the Desk Officer for Agriculture, Office of Information and Regulatory Affairs, Office of Management and Budget, Washington, DC 20502. Reference should be made to the volume, page, and date of this Federal Register publication.

Background and Purpose

The Cooperative State Research, Education, and Extension Service (CSREES) proposes to implement the following revised Guidelines for State Plans of Work for the Agricultural Research and Extension Formula Funds which implement the plan-of-work reporting requirements enacted in the Agricultural Research, Extension, and Education Reform Act of 1998 (AREERA), Public Law 105-185.

These proposed guidelines incorporate some of the recommendations from the USDA Office of Inspector General (OIG) Audit Report No. 13001-3-Te, CSREES Implementation of the Agricultural Research, Extension, and Education Reform Act of 1998 (AREERA), which was published on August 16, 2004. In an earlier Federal Register notice [69 FR 6244-6248], CSREES amended the guidelines to the State Plans of Work to allow for the submission of an interim FY 2005-2006 Plan of Work in order for CSREES to consider the audit recommendations as well as develop a viable electronic option for compliance with the Government Paperwork Elimination Act (GPEA). This notice proposes this electronic option through a web-based data entry system which will reduce the reporting burden to the institutions while providing more accountability over agricultural research and extension formula funds.

These guidelines also propose eliminating the reporting by the five national goals, i.e., the reporting centered around State identified planned program areas, and using newly established Knowledge Areas (KAs). It is anticipated that these reporting changes will eliminate burden to the institutions while providing opportunities for more effective and efficient reports on program accountability.

Pursuant to the plan of work requirements enacted in the Agricultural Research, Extension, and Education Reform Act of 1998, the Cooperative State Research, Education, and Extension Service hereby proposes to revise the Guidelines for State Plans of Work for Agricultural Research and Extension Formula Funds as follows:

Guidelines for State Plans of Work for Agricultural Research and Extension Formula Funds

Table of Contents

I. Preface and Authority

II. Submission of the 5-Year Plan of Work

A. General

1. Planning Option

2. Periord Covered

3. Projected Resources

4. Submission and Due Date

5. Definitions

B. Components of the 5-Year Plan of Work

1. Planned Programs

a. Format

b. Program Logic Model

c. Program Descriptions

2. Stakeholder Input Process

3. Program Review Process

a. Merit Review

b. Scientific Peer Review

c. Reporting Requirement

4. Multistate Research and Extension Activities

a. Hatch Multistate Research

b. Smith-Lever Multistate Extension

c. Reporting Requirement

5. Integrated Research and Extension Activities

C. Five-Year Plan of Work Evaluation by CSREES

1. Schedule

2. Review Criteria

3. Evaluation of Multistate and Integrated Research and Extension Activities

III. Annual Update of the 5-Year Plan of Work

A. Applicability

B. Reporting Requirement

IV. Annual Report of Accomplishments and Results

A. Reporting Requirement

B. Format

I. Preface and Authority

Sections 202 and 225 of the Agricultural Research, Extension, and Education Reform Act of 1998 (AREERA), Public Law 105-185, enacted amendments requiring all States and 1890 institutions receiving formula funds authorized under the Hatch Act of 1887, as amended (7 U.S.C. 361a et seq.), the Smith-Lever Act, as amended (7 U.S.C. 341 et seq.), and sections 1444 and 1445 of the National Agricultural Research, Extension, and Teaching Policy Act of 1977 (NARETPA), as amended (7 U.S.C. 3221 and 3222), to prepare and submit to the Cooperative State Research, Education, and Extension Service (CSREES) a plan of work for the use of those funds.

While the requirement for the Hatch Act and Smith-Lever Act funds applies to the States, CSREES assumes that in most cases the function will be performed by the 1862 land-grant institution in the States. The only “eligible institutions” to receive formula funding under sections 1444 and 1445 of NARETPA are the 1890 land-grant institutions and Tuskegee University and West Virginia State University. Therefore, these guidelines refer throughout to “institutions” to include both the 1862 and 1890 land-grant institutions, including Tuskegee University and West Virginia State University.

Further, these guidelines require a plan of work that covers both research and extension. Although the District of Columbia receives extension funds under the District of Columbia Postsecondary Education Reorganization Act, Public Law 93-471, as opposed to the Smith-Lever Act, CSREES has determined that it should be subject to the plan of work requirements imposed under these guidelines except where expressly excluded.

All the requirements of AREERA with regard to agricultural research and extension formula funds were considered and were incorporated in these plan of work guidelines including descriptions of the following: (1) The critical short-term, intermediate, and long-term agricultural issues in the State and the current and planned research and extension programs and projects targeted to address the issues; (2) the process established to consult with stakeholders regarding the identification of critical agricultural issues in the State and the development of research and extension projects and programs targeted to address the issues; (3) the efforts made to identify and collaborate with other colleges and universities that have a unique capacity to address the identified agricultural issues in the State and the extent of current and emerging efforts (including regional and multistate efforts) to work with those other institutions; (4) the manner in which research and extension, including research and extension activities funded other than through formula funds, will cooperate to address the critical issues in the State, including the activities to be carried out separately, sequentially, or jointly; and (5) for extension, the education and outreach programs already underway to convey available research results that are pertinent to a critical agricultural issue, including efforts to encourage multicounty cooperation in the dissemination of research information.

These guidelines also take into consideration the requirement in section 102(c) of AREERA for the 1862, 1890, and 1994 land-grant institutions receiving agricultural research, extension, and education formula funds to establish a process for receiving stakeholder input on the uses of such funds. This stakeholder input requirement, as it applies to research and extension at 1862 and 1890 land-grant institutions, has been incorporated as part of the plan of work process.

The requirement of section 103(e) of AREERA also is addressed in these plan of work guidelines. This section requires that the 1862, 1890, and 1994 land-grant institutions establish a merit review process, prior to October 1, 1999, in order to obtain agricultural research, extension, and education funds. These were established by all institutions in the FY 2000-2004 5-Year Plan of Work. For purposes of these guidelines applicable to formula funds, a description of the merit review process must be restated, and if applicable, the merit review process must be re-established for extension programs funded under sections 3(b)(1) and (c) of the Smith-Lever Act and under section 1444 of NARETPA, and for research programs funded under sections 3(c)(1) and (2) of the Hatch Act (commonly referred to as Hatch Regular Formula Funds) and under section 1445 of NARETPA. Section 104 of AREERA amended the Hatch Act of 1887 also to stipulate that a scientific peer review process (that also would satisfy the requirements of a merit review process under section 103(e)) be established for research programs funded under section 3(c)(3) of the Hatch Act (commonly referred to as Hatch Multistate Research Funds). As previously stated, a description of these program review processes must be restated, and if applicable, these review processes must be re-established in order for the institutions to obtain agricultural research and extension formula funds. Consequently, a description of the merit review and scientific peer review process has been included as a requirement in the submission of the 5-Year Plan of Work.

These plan of work guidelines also require reporting on the multistate and integrated research and extension programs. Section 104 of AREERA amended the Hatch Act of 1887 to redesignate the Hatch regional research funds as the Hatch Multistate Research Fund, specifying that these funds be used for cooperative research employing multidisciplinary approaches in which a State agricultural experiment station, working with another State agricultural experiment station, the Agricultural Research Service, or a college or university, cooperates to solve the problems that concern more than one State. Section 105 of AREERA amended the Smith-Lever Act to require that each institution receiving extension formula funds under sections 3(b) and (c) of the Smith-Lever Act expend for multistate activities in FY 2000 and thereafter a percentage that is at least equal to the lesser of 25 percent or twice the percentage of funds expended by the institution for multistate activities in FY 1997. Section 204 of AREERA amended both the Hatch and Smith-Lever Acts to require that each institution receiving agricultural research and extension formula funds under the Hatch Act and sections 3(b) and (c) of the Smith-Lever Act expend for integrated research and extension activities in FY 2000 and thereafter a percentage that is at least equal to the lesser of 25 percent or twice the percentage of funds expended by the institution for integrated research and extension activities in FY 1997. These sections also required that the institutions include in the plan of work a description of the manner in which they will meet these multistate and integrated requirements. These were included as part of the FY 2000-2004 5-Year Plan of Work and the established baselines remain in effect for the 5-Year Plan of Work beginning with FY 2007 and do not need to be re-established.

These applicable percentages apply to the Federal agricultural research and extension formula funds only. Federal formula funds that are used by the institution for a fiscal year for integrated activities may also be counted to satisfy the multistate activities requirement.

The multistate and integrated research and extension requirements do not apply to formula funds received by American Samoa, Guam, Micronesia, Northern Marianas, Puerto Rico, and the Virgin Islands. Since the Smith-Lever Act is not directly applicable, the multistate and integrated extension requirements do not apply to extension funds received by the District of Columbia, except to the extent it voluntarily complies.

The amendments made by sections 105 and 204 of AREERA also provide that the Secretary of Agriculture may reduce the minimum percentage required to be expended by the institution for multistate and integrated activities in the case of hardship, infeasibility, or other similar circumstance beyond the control of the institution. In April 2000, CSREES issued separate guidance on the establishment of the FY 1997 baseline percentages for multistate activities and integrated activities, on requests for reduction in the required minimum percentage, and on reporting requirements. These baselines were set and continue to be the baselines for the Plans of Work and Annual Reports of Accomplishments and Results.

Also included in these guidelines are instructions on how to report on the annual accomplishments and results of the planned programs contained in the 5-Year Plan of Work, information on the evaluation of accomplishments and results, and information on when and how to update the 5-Year Plan of Work if necessary.

II. Submission of the 5-Year Plan of Work

A. General

1. Planning Option

This document provides guidance for preparing the plan of work with preservation of institutional autonomy and programmatic flexibility within the Federal-State Partnership. The plan of work is a 5-year prospective plan that covers the initial period of FY 2007 through FY 2011, with the submission of annual updates to the 5-Year Plan of Work to add an additional year to the plan each year. The 5-Year Plans of Work may be prepared for an institution's individual functions (i.e., research or extension activities), for an individual institution (including the planning of research and extension activities), or for state-wide activities (a 5-year research and/or extension plan of work for all the eligible institutions in a State). Each 5-Year Plan of Work must reflect the content of the program(s) funded by Federal agricultural research and extension formula funds and the required matching funds. This 5-Year Plan of Work must describe how the program(s) addresses critical short-term, intermediate, and long-term agricultural issues in a State.

2. Period Covered

The initial 5-Year Plan of Work should cover the period from October 1, 2007, through September 30, 2011.

3. Projected Resources

The resources that are allocated for various planned programs in the 5-Year Plan of Work, in terms of human and fiscal measures, should be included and projected over the next five years. The baseline for the institution's or State's plan (for five years) should be the Federal agricultural research and extension formula funds for FY 2005 (and used for all five years) and the appropriate matching requirement for each fiscal year. During the course of the 5-Year Plan of Work, if the baseline for the formula funds changes by more than 10 percent in one year or by 20 percent or more cumulatively during the 5-year period, a revised 5-Year Plan of Work should be submitted in the annual update the following fiscal year.

4. Submission and Due Date

The 5-Year Plan of Work must be submitted by April 1, 2006, to the Planning and Accountability Unit, Office of the Administrator, of the Cooperative State Research, Education, and Extension Service (CSREES); U.S. Department of Agriculture. These will be submitted electronically via a web-based data input system for the Plan of Work and Annual Report of Accomplishments and Results provided by CSREES.

5. Definitions

For the purpose of implementing the Guidelines for State Plans of Work for Agricultural Research and Extension Formula Funds, the following definitions are applicable:

Activities means either research projects or extension programs.

Agricultural issues means all issues for which research and extension are involved, including, but not exclusive of, agriculture, natural resources, nutrition, community and resource development, and social issues such as youth development, etc.

Formula funds for the purposes of the plan of work guidelines means funding provided by formula to 1862 land-grant institutions under section 3 of the Hatch Act of 1887, as amended (7 U.S.C. 361a) and sections 3(b)(1) and (c) of the Smith-Lever Act, as amended (7 U.S.C. 343(b)(1) and (c)) and to the 1890 land-grant institutions under sections 1444 and 1445 of the National Agricultural Research, Extension, and Teaching Policy Act of 1977, as amended (7 U.S.C. 3221 and 3222).

Formula funds for the purposes of stakeholder input means the funding by formula to the 1862 land-grant institutions and 1890 land-grant institutions covered by these plan of work guidelines as well as the formula funds provided under the McIntire-Stennis Cooperative Forestry Research Program (16 U.S.C. 582, et seq.), the Animal Health and Disease Research Program (7 U.S.C. 3195), and the education payments made to the 1994 land-grant institutions under section 534(a) of Public Law 103-382 (7 U.S.C. 301 note).

Integrated or joint activities means jointly planned, funded, and interwoven activities between research and extension to solve problems. This includes the generation of knowledge and the transfer of information and technology.

Merit review means an evaluation whereby the quality and relevance to program goals are assessed.

Multi-institutional means two or more institutions within the same or different States or territories that will collaborate in the planning and implementation of programs.

Multistate means collaborative efforts that reflect the programs of institutions located in at least two or more States or territories.

Multi-disciplinary means efforts that represent research, education, and/or extension programs in which principal investigators or other collaborators from two or more disciplines or fields of specialization work together to accomplish specified objectives.

Outcome indicator means an assessment of the results of a program activity compared to its intended purpose.

Output indicator means a tabulation, calculation, or recording of activity of effort expressed in quantitative or qualitative manner which measures the products or services produced by the planned program.

Planned programs means collections of research projects or activities and/or extension programs or activities.

Program Logic Model means the conceptual tool for planning and evaluation which displays the sequence of actions that describe what the science-based program is and will do “ how investments link to results. Included in this depiction of the program action are six core components:

1. Identification of the national problem, need, or situation that needs to be addressed by the program: The conceptual model will delineate the steps that are planned, based on past science and best theory, to achieve outcomes that will best solve the identified national problems and meet the identified needs.

2. Assumptions: The beliefs we have about the program, the people involved, and the context and the way we think the program will work. These science-based assumptions are based on past evaluation science findings regarding the effects and functioning of the program or similar programs, program theory, stakeholder input, etc.

3. External Factors: The environment in which the program exists includes a variety of external factors that interact with and influence the program action. Evaluation plans for the program should account for these factors, which are alternative explanations for the outcomes of the program other than the program itself. Strong causal conclusions about the efficacy of the program must eliminate these environmental factors as viable explanations for the observed outcomes of the program.

4. Inputs: The resources, contributions, and investments that are provided for the program. This includes Federal, State, and local spending, private donations, volunteer time, etc.

5. Outputs: The activities, services, events, and products that are intended to lead to the program's outcomes in solving national problems by the causal chain of events depicted in the logic model. These activities and products are posited to reach the people who are targeted as participants or the audience or beneficiaries of the program.

6. Outcomes: The planned results or changes for individuals, groups, communities, organizations, communities, or systems. These include short term, medium term, and long term outcomes in the theorized chain of causal events that will lead to the planned solution of the identified national problems or meet national needs. These can be viewed as the public's return on its investment, i.e., the value-added to society in the benefits it reaps from the program.

Program review means either a merit review or a scientific peer review.

Scientific peer review means an evaluation performed by experts with scientific knowledge and technical skills to conduct the proposed work whereby the technical quality and relevance to program goals are assessed.

Seek stakeholder input means an open, fair, and accessible process by which individuals, groups, and organizations may have a voice, and one that treats all with dignity and respect.

Stakeholder is any person who has the opportunity to use or conduct agricultural research, extension, and education activities in the State.

Under-served means individuals, groups, and/or organizations whose needs have not been addressed in past programs.

Under-represented means individuals, groups, and/or organizations especially those who may not have participated fully including, but not limited to, women, racial and ethnic minorities, persons with disabilities, limited resource clients, and small farm owners and operators.

B. Components of the 5-Year Plan of Work

1. Planned Programs

Beginning with the FY 2007-2011 5-Year Plan of Work, the Planned Programs will no longer be arranged around the five National Goals established for the FY 2000-2004 5-Year Plan of Work, nor will they be identified by the previously established Key Themes. Planned programs will be centered around State-identified planned program areas and CSREES newly established Knowledge Areas (KAs).

a. Format. As mentioned under the Planning Options section, an institution or State may opt to submit independent plans for the various units (e.g., 1862 research) or an integrated plan which includes all units in the institution or State.

b. Program Logic Model. Regardless of the option chosen, the 5-Year Plan of Work should be reported in the appropriate format, each of which identifies planned programs that the State decides upon. Each Planned Program the State decides upon will be formatted around the Program Logic Model in this web-based Plan of Work data entry system. This is a nationally recognized method and used extensively by planning and evaluation specialists to display the sequence of actions that describe what the program is and will do and how investments link to results. It is commonly used by many State Cooperative Extension Services.

c. Program Descriptions. Program descriptions presented for a planned program will be formatted around the Program Logic Model and include the following data entry screens:

1. Name of Program. The State-designated title for a State Research and/or Extension Program. This is in contrast to a project title. A research program may consist of several research projects. Examples of Programs may include, but not be exclusive of: 4-H and Youth, Pest Management, Animal Genomics, Natural Resources, Economics and Commerce, etc.

2. Classification of Program. Up to ten different classification codes and their respective percentage of effort may be used to classify the knowledge areas covered in each State program.

3. Situation and Priorities. This component should discuss the critical agricultural issues within the State that were identified and are being targeted by this planned program. This component may also reference the stakeholder input which identified the critical agricultural issue in the State and the need for the targeted research and/or extension program.

a. Identify the internal and external linkages that include activities identified as integrated, multidisciplinary, multi-institutional, and/or multistate. This component may also address any efforts made to identify and collaborate with other colleges and universities that have a unique capacity to address the identified agricultural issues within the State and the extent of current and emerging efforts (including regional efforts) to work with those institutions. Within this planning component, discussion should be made regarding the efficiencies achieved through these internal and external linkages both in the use of resources and/or in the ability to solve critical agricultural issues.

b. Identify the set of stakeholders, customers, and/or consumers for which the program is intended. The 5-Year Plan of Work should address the institution's commitment to facilitating equality of service and ease of access to all research and extension programs and services and to meeting the needs of under-served and under-represented individuals, groups, and/or organizations.

c. Describe education and outreach programs that are already underway to convey the research results that are pertinent to the critical agricultural issue identified in the “Statement of Issue.” This planning component applies only to those 5-Year Plans of Work incorporating extension activities of the 1862 and/or 1890 land-grant institutions.

4. Expected Duration of the Program. A data check box will ask you to express the program duration as short-term (one year or less), intermediate (one to five years), or long-term (over five years).

5. Inputs. The resources, contributions, investments that go into the program. The Web-based software will include formula dollars, matching dollars, and other funds budgeted, and estimated FTEs. AREERA requires that this component may not only include the amount of Federal agricultural research and/or extension formula funds and matching funds allocated to this planned program, but also the manner in which funds, other than formula funds, will be expended to address the critical issues being targeted by this planned program.

6. Outputs. The activities, services, events and products that reach people who participate or who are targeted. These outputs are intended to lead to specific outcomes. The Web-based data entry system will include standard performance measures such as number of persons targeted (direct and indirect contacts), number and type of patents awarded, as well as state-generated target performance measures.

7. Outcomes. The direct results, benefits, or changes for individuals, groups, communities, organizations, or systems. Examples include changes in knowledge, skill development, changes in behavior, capacities or decision-making, and policy development. Outcomes can be short-term, medium-term, or long-term achievements. Short-term outcomes refer to changes in learning. Medium-term outcomes refer to changes in action. Long-term outcomes refer to changes in conditions. Outcomes may be positive, negative, neutral, intended, or unintended. Impact in this model refers to the ultimate consequence or effects of the program (for example, increased economic security or improved air quality). In this model, impact is synonymous with the long-term outcome of your goal. It is at the farthest right on the logic model graphic. Impact refers to the ultimate, long-term changes in social, economic, civic, or environmental conditions. In common usage impact and outcomes are often used interchangeably.

The Web-based software will include standard performance measures, such as number of persons adopting a technology or practice or dollars saved or generated, and will allow for state-generated target performance measures.

8. Assumptions. The beliefs we have about the program, the people involved, and the context and the way we think the program will work. The Web-based data entry system will require a short discussion on the assumptions that underlie and influence the program decisions made. Assumptions are principles, beliefs, ideas about the problem or situation, the resources and staff, the way the program will operate, what the program expects to achieve, the knowledge base, the external environment, the internal environment, the participants and how they learn, their behavior, motivations, etc.

9. External Factors. The environment in which the program exists includes a variety of external factors that interact with and influence the program action. External factors include the cultural milieu, the climate, economic structure, housing patterns, demographic patterns, background and experiences of program participants, media influence, changing policies and priorities. These external factors may have a major influence on the achievement of outcomes. They may affect a variety of things including program implementation, participants and recipients, the speed and degree to which change occurs, staffing patterns, and resources available. A program is affected by and affects these external factors.

2. Stakeholder Input Process

Section 102(c) of AREERA requires the 1862 land-grant institutions, 1890 land-grant institutions, and 1994 land-grant institutions receiving agricultural research, extension, and education formula funds from CSREES to establish a process for stakeholder input on the uses of such funds. CSREES has separately promulgated regulations to implement this stakeholder input requirement. This was published on February 8, 2000, in the Federal Register (7 CFR Part 3418).

As a component of the 5-Year Plan of Work, each institution must report on the (a) actions taken to seek stakeholder input that encourages their participation; (b) a brief statement of the process used by the recipient institution to identify individuals and groups who are stakeholders and to collect input from them; and (c) a statement of how collected input was considered. This report will be required annually and may be submitted with the Annual Report of Accomplishments and Results. This component will satisfy the reporting requirements imposed by the separately promulgated regulations on stakeholder input.

In the Web-based software, CSREES will provide check lists with the commonly reported actions taken to seek stakeholder input, the process used to identify stakeholders and collect input from them and how the input was considered, and will allow for additional information in each section in the form of a narrative.

3. Program Review Process

a. Merit Review. Effective October 1, 1999, each 1862 land-grant institution and 1890 land-grant institution must have established a process for merit review in order to obtain agricultural research or extension formula funds. This was established in the FY 2000-2004 5-Year Plan of Work by all institutions.

b. Scientific Peer Review. A scientific peer review is required for all research funded under the Hatch Act Multistate Research Fund. For such research, this scientific peer review will satisfy the merit review requirement specified above.

c. Reporting Requirement. As a component of the 5-year Plan of Work, each institution, depending on the type of program review required, will provide a description of the merit review process or scientific peer review process established at their institution. This description should include the process used in the selection of reviewers with expertise relevant to the effort and appropriate scientific and technical standards.

4. Multistate Research and Extension Activities

a. Hatch Multistate Research. Effective October 1, 1998, the Hatch Multistate Research Fund replaced the Hatch Regional Research Program. The Hatch Multistate Research Fund must be used for research employing multidisciplinary approaches to solve research problems that concern more than one State. For such research, State agricultural experiment stations must partner with another experiment station, the Agricultural Research Service, or another college or university.

b. Smith-Lever Multistate Extension. Effective October 1, 1999, the cooperative extension programs at the 1862 land-grant institutions must have expended up to 25 percent of their formula funds provided under sections 3(b)(1) and (c) of the Smith-Lever Act for activities in which two or more State extension services cooperate to solve problems that concern more than one State. As required by law, CSREES has worked with each 1862 land-grant institution to identify the amount each institution expended for multistate extension activities for FY 1997. For FY 2000 and thereafter, cooperative extension programs must commit two times their FY 1997 baseline percentage or 25 percent, whichever is less, for multistate activities. Institutions should describe the contributions of extension staff and programs toward impacts rather than describe the programs. Each participating State or territory must be a collaborator towards objectives and involved in the outcomes. Evidence of the proposed collaboration must be provided in the 5-Year Plan of Work submitted by each State. This planning is documented through formal agreements, letters of memorandums, contracts, or other instruments that provide primary evidence that a multistate relationship exists.

c. Reporting Requirements. The 5-Year Plan of Work should include a description of the Multistate Research, where applicable, and Multistate Extension programs as specified above and these programs must be reported consistently across the units of an institution as well as with the 5-Year Plan of Work of the cooperating State(s) or State institutions. These descriptions should be reported in the Planned Programs section of the 5-Year Plan of Work. A table will be provided by the web-based software for reporting dollars expended each year on these activities.

5. Integrated Research and Extension Activities

a. Effective October 1, 1999, up to 25 percent of all funds provided under section 3 of the Hatch Act and under section 3(b)(1) and (c) of the Smith-Lever Act must have been spent on activities that integrate cooperative research and extension. As required by law, CSREES has worked with each 1862 land-grant institution to establish the institution's baseline for integrated research and extension activities for FY 1997. For FY 2000 and thereafter, 1862 land-grant institutions must have committed twice the FY 1997 baseline percentage or 25 percent, whichever is less, for integrated activities. Integration may occur within the State or between units within two or more States. Integrated programming must be reported in the 5-Year Plan of Work and be reported consistently across the units of the institutions as well as with the 5-Year Plan of Work submitted by cooperating State(s). Federal formula funds used by a State for integrated activities may also be counted to satisfy the multistate research and the multistate extension activity requirements. The requirements of this section apply only to the Federal funds.

b. Reporting Requirements. The 5-Year Plan of Work should include a description of the Integrated Research and Extension programs as specified above and these programs must be reported consistently across the units of an institution as well as with the 5-Year Plan of Work of the cooperating State(s) or State institutions. These descriptions should be reported in the Planned Programs section of the 5-Year Plan of Work. A table will be provided by the Web-based software for reporting dollars expended each year on these activities.

C. 5-Year Plan of Work Evaluation by CSREES

1. Schedule

CSREES will evaluate all 5-Year Plans of Work. The 5-Year Plans of Work will either be accepted by CSREES without change or returned to the institution with clear and detailed recommendations for its modification. The submitting institution(s) will be notified by CSREES of its determination within 90 days (review to be completed in 60 days with communications to the institutions allowing a 30-day response) of receipt of the document. Adherence to the Plan of Work schedule by the recipient institution is critical to assuring the timely allocation of funds by CSREES. Five-Year Plans of Work accepted by CSREES will remain in effect for five years and will be publicly available in a CSREES database. CSREES will notify all institutions of the need for a new 5-Year Plan of Work at least one year prior to the plan's expiration on September 30.

2. Review Criteria

CSREES will evaluate the 5-Year Plans of Work to determine if they address agricultural issues of critical importance to the State; identify the alignment and realignment of programs to address those critical issues; identify the involvement of stakeholders in the planning process; give attention to under-served and under-represented populations; indicate the level of Federal formula funds in proportion to all other funds at the director or administrator level; provide evidence of multistate, multi-institutional, and multidisciplinary and integrated activities; and identify the expected outcomes and impacts from the proposed 5-Year Plan of Work.

3. Evaluation of Multistate and Integrated Research and Extension Activities

CSREES will use the Annual Reports of Accomplishments and Results to evaluate the success of multistate, multi-institutional, and multidisciplinary activities and joint research and extension activities in addressing critical agricultural issues identified in the 5-Year Plans of Work. CSREES will use the following evaluation criteria: (1) Did the planned program address the critical issues of strategic importance, including those identified by the stakeholders? (2) Did the planned program address the needs of under-served and under-represented populations of the State(s)? (3) Did the planned program describe the expected outcomes and impacts? and (4) Did the planned program result in improved program effectiveness and/or efficiency?

III. Annual Update of the 5-Year Plan of Work

A. Applicability

An annual update to the 5-Year Plan of Work is required each year to add an additional year to the Plan.

B. Reporting Requirement

The update to the 5-Year Plan of Work should be submitted on April 1 prior to the beginning of the next Plan of Work fiscal year (which begins on October 1 of each year).

IV. Annual Report of Accomplishments and Results

A. Reporting Requirement

The 5-Year Plan of Work for a reporting unit, institution, or State should form the basis for annually reporting its accomplishments and results. This report will be due on or before April 1 each year with the first report being due on April 1, 2008, for FY 2007. This report should be submitted using the same Web-based data entry system used for the submission of the 5-Year Plan of Work. The Web-based data entry system will mirror and include data entered by the land-grant institution in the 5-Year Plan of Work.

B. Format

This annual report should include the relevant information related to each component of the program of the 5-Year Plan of Work. Accomplishments and results reporting should involve two parts. First, institutions should submit an annual set of impact statements linked to sources of funding. Strict attention to just the preceding year is not expected in all situations. Some impact statements may need to cover ten or more years of activity. Focus should be given to the benefits received by targeted end-users. Second, institutions should submit annual results statements based on the indicators of the outputs and outcomes for the activities undertaken the preceding year in the Program Logic Model for each program. These should be identified as short-term, intermediate, or long-term critical issues in the 5-Year Plan of Work. Attention should be given to highlighting multistate, multi-institutional, and multidisciplinary and integrated activities, as appropriate to the 5-Year Plan of Work.

Done at Washington, DC, this 31st day of May 2005.
Joseph J. Jen,
Under Secretary, Research, Education, and Economics.

[FR Doc. 05-11280 Filed 6-6-05; 8:45 am]

BILLING CODE 3410-22-P